DEPARTMENT OF COMMERCE

National Oceanic and Atmospheric Administration

50 CFR Part 622

[Docket No. 101206604-1758-02]

RIN 0648-XE326

Coastal Migratory Pelagic Resources of the Gulf of Mexico and South Atlantic; 2015-2016 Accountability Measure and Closure for Commercial King Mackerel in the Florida West Coast Northern Subzone; Correction

AGENCY: National Marine Fisheries Service (NMFS), National Oceanic and Atmospheric Administration (NOAA), Commerce.

ACTION: Temporary rule; correction.

SUMMARY: This document contains corrections to a temporary rule published in the Federal Register on November 27, 2015, with an effective date span of November 28, 2015, to July 1, 2016, regarding an accountability measure and closure for commercial king mackerel in the Florida west coast northern subzone in the Gulf of Mexico (Gulf) exclusive economic zone (EEZ) for the 2015-2016 fishing year. This document corrects the effective date span to conclude on October 1, 2016, and corrects a sentence, which stated the fishing year incorrectly.

DATES: The effective date for the final rule published November 27, 2015, at 80 FR 74001, is 12 p.m., local time, November 28, 2015, until 12:01 a.m., local time, on October 1, 2016.

FOR FURTHER INFORMATION CONTACT: Susan Gerhart, NMFS Southeast Regional Office, telephone: 727-824-5305, email: susan.gerhart@noaa.gov.

SUPPLEMENTARY INFORMATION: In the temporary rule that published in the Federal Register on November 27, 2015 (80 FR 74001), the effective date of the rule and the fishing year for the commercial sector of Gulf migratory group king mackerel in the Florida west coast northern subzone of the Gulf EEZ were stated incorrectly.

Correction

The correct effective date for the temporary rule is November 28, 2015, until 12:01 a.m., local time, on October 1, 2016.

In the SUPPLEMENTARY INFORMATION section on page 74002 of the temporary rule, column 1, the last sentence of the third paragraph is corrected to read as follows:

“Accordingly, the Florida west coast northern subzone is closed effective noon, local time, November 28, 2015, through September 30, 2016, the end of the current fishing year, to commercial fishing for Gulf migratory group king mackerel.”

Authority: 16 U.S.C. 1801 et seq.

Dated: December 9, 2015.
Emily H. Menashes,
Acting Director, Office of Sustainable Fisheries, National Marine Fisheries Service.

[FR Doc. 2015-31480 Filed 12-14-15; 8:45 am]

BILLING CODE 3510-22-P